NUCLEAR REGULATORY COMMISSION

Withdrawal of Regulatory Guide

AGENCY: Nuclear Regulatory Commission.

ACTION: Withdrawal of Regulatory Guide 3.38.

FOR FURTHER INFORMATION CONTACT: Robert G. Carpenter, U.S. Nuclear Regulatory Commission, Washington, DC 20555-0001, telephone: 301-415-6177 or e-mail to Robert.Carpenter@nrc.gov.

SUPPLEMENTARY INFORMATION:

I. Introduction

The U.S. Nuclear Regulatory Commission (NRC) is withdrawing Regulatory Guide 3.38, “General Fire Protection Guide for Fuel Reprocessing Plants.” This guide was released for comment in June 1976 and provided guidance on acceptable criteria for fire protection programs in the design and construction of fuel reprocessing facilities. The NRC is withdrawing this regulatory guide because it is outdated.

There are currently no licensees that operate fuel reprocessing plants. Additionally, the staff is considering amending the regulatory framework for licensing advanced fuel cycle facilities, such as a reprocessing facility, and Regulatory Guide 3.38 is currently not sufficient guidance for future fuel reprocessing facilities. The staff will consider issuing additional guidance in conjunction with a revised regulatory framework for licensing a reprocessing facility.

II. Further Information

The withdrawal of Regulatory Guide 3.38 does not alter any prior or existing licensing commitments based on its use. Regulatory guides may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is US NRC PDR, Washington, DC 20555-0001. You can reach the PDR staff by telephone at 301-415-4737 or 1 800-397-4209, by fax at 301-415-3548, and by e-mail to pdr.resource@nrc.gov.

Regulatory guides are not copyrighted, and Commission approval is not required to reproduce them.

Dated at Rockville, Maryland, this 3rd day of December 2008.
For the Nuclear Regulatory Commission.
Andrea D. Valentin,
Chief, Regulatory Guide Development Branch, Division of Engineering, Office of Nuclear Regulatory Research.

[FR Doc. E8-29724 Filed 12-15-08; 8:45 am]

BILLING CODE 7590-01-P